DEPARTMENT OF JUSTICE

Notice of Lodging of Consent Decree Under the Comprehensive Environmental Response, Compensation, and Liability Act

Pursuant to 42 U.S.C. 9622(d)(2) and 28 CFR 50.7, notice is hereby given that, on June 20, 2008, a proposed Amended Consent Decree in United States and the State of Wisconsin v. P.H. Glatfelter Co. and WTM I Co., Civil Action No. 03-C-0949 (E.D. Wis.) was lodged with the United States District Court for the Eastern District of Wisconsin. The Amended Consent Decree concerns polychlorinated biphenyl (“PCB”) contamination in a particular area of the Lower Fox River and Green Bay Site, known as Operable Unit 1 (Little Lake Butte des Morts).

The original Consent Decree in this matter required the Defendants to implement the cleanup remedy for Operable Unit 1 that was selected in a December 2002 Record of Decision issued jointly by the U.S. Environmental Protection Agency (“EPA”) and the Wisconsin Department of Natural Resources (“WDNR”). That Decree provided that the Defendants would pay for performance of that work using a specially-dedicated $60 million fund established by the potentially-responsible parties, plus interest earned on the money placed in that fund. In light of that limited funding commitment, the Decree included corresponding “cost reopener” provisions that allowed termination of the Decree (with reservations of rights) if the actual costs of the work exceeded that funding commitment. The Amended Consent Decree would eliminate the “cost reopener” provisions of the original Decree and it would require the Defendants to complete the Operable Unit 1 cleanup without any pre-defined funding limitation. The Amended Decree also would accommodate adjustments to the Operable Unit 1 remedy that are reflected in a Record of Decision Amendment that EPA and WDNR issued on June 12, 2008. The work under the original Decree and the proposed Amended Decree currently is estimated to cost approximately $102 million. Like the original Decree, the Amended Decree would not resolve the Defendants' liability for additional cleanup work that will be required elsewhere at the Site.

The Department of Justice will receive comments relating to the Amended Consent Decree for a period of thirty (30) days from the date of this publication. Comments should be addressed to the Assistant Attorney General, Environment and Natural Resources Division, and mailed either electronically to pubcomment-ees.enrd@usdoj.gov or in hard copy to P.O. Box 7611, U.S. Department of Justice, Washington, DC 20044-7611. Comments should refer to United States and the State of Wisconsin v. P.H. Glatfelter Co. and WTM I Co., Civil Action No. 03-C-0949 (E.D. Wis.) and D.J. Ref. No. 90-11-2-1045/2.

The Amended Consent Decree may be examined at: (1) The offices of the United States Attorney, 517 E. Wisconsin Avenue, Room 530, Milwaukee, Wisconsin; and (2) the offices of the U.S. Environmental Protection Agency, Region 5, 77 West Jackson Boulevard, 14th Floor, Chicago, Illinois. During the public comment period, the Consent Decree may also be examined on the following Department of Justice Web site: http://www.usdoj.gov/enrd/Consent_Decrees.html. A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $49.25 (197 pages at 25 cents per page reproduction cost) payable to the U.S. Treasury. For a copy of the Consent Decree alone, without appendices, please enclose a check in the amount of $26.25 (105 pages at 25 cents per page reproduction cost) payable to the U.S. Treasury.

William D. Brighton,
Assistant Chief, Environmental Enforcement Section, Environment and Natural Resources Division.

[FR Doc. E8-14725 Filed 6-27-08; 8:45 am]

BILLING CODE 4410-15-P